ENVIRONMENTAL PROTECTION AGENCY

[FRL OP-OFA-028]

Environmental Impact Statements; Notice of Availability

Responsible Agency: Office of Federal Activities, General Information 202-564-5632 or https://www.epa.gov/nepa.

Weekly receipt of Environmental Impact Statements (EIS)

Filed July 25, 2022 10 a.m. EST Through August 1, 2022 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20220109, Final, FERC, PA, Regional Energy Access Expansion Project, Review Period Ends: 09/06/2022, Contact: Office of External Affairs 866-208-3372.

EIS No. 20220110, Final, NRC, SC, License Renewal of the Columbia Fuel Fabrication Facility in Richland County, South Carolina, Review Period Ends: 09/06/2022, Contact: Stacey Imboden 301-415-2462.

Amended Notice

EIS No. 20220084, Draft, BOEM, NJ, Ocean Wind 1 Offshore Wind Farm, Comment Period Ends: 08/23/2022, Contact: Michelle Morin 703-787-1722. Revision to FR Notice Published 06/24/2022; Extending the Comment Period from 08/08/2022 to 08/23/2022.

Dated: August 1, 2022.
Cindy S. Barger,
Director, NEPA Compliance Division, Office of Federal Activities.

[FR Doc. 2022-16814 Filed 8-4-22; 8:45 am]

BILLING CODE 6560-50-P